DEPARTMENT OF COMMERCE

National Oceanic and Atmospheric Administration

RIN 0648-XP18

Marine Mammals; File No. 14327

AGENCY: National Marine Fisheries Service (NMFS), National Oceanic and Atmospheric Administration (NOAA), Commerce.

ACTION: Notice; receipt of application for permit amendment.

SUMMARY: Notice is hereby given that the National Marine Fisheries Service's National Marine Mammal Laboratory (NMML), 7600 Sand Point Way, Seattle, WA 98115 [Principal Investigator: Thomas Gelatt, Ph.D.], has applied for an amendment to Scientific Research Permit No. 14327.

DATES: Written, telefaxed, or email comments must be received on or before June 16, 2014.

ADDRESSES: The application and related documents are available for review by selecting “Records Open for Public Comment” from the Features box on the Applications and Permits for Protected Species home page, https://apps.nmfs.noaa.gov, and then selecting File No. 14327-01 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Courtney Smith, (301) 427-8401.

SUPPLEMENTARY INFORMATION: The subject amendment to Permit No. 14327 is requested under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Permit No. 14327, issued on August 17, 2009 (74 FR 44823), authorizes NMML to investigate population status and trends, demographic parameters, health and condition, and foraging ecology of northern fur seals (Callorhinus ursinus) in U.S. waters, including rookeries and haulouts in CA California and AK Alaska. Research on the San Miguel Island stock involves: Capture, restraint, sampling, and incidental disturbance. Research on the Eastern Pacific stock involves: Capture, restraint, sampling, and incidental disturbance. The permit also authorizes research-related mortality of fur seals from the San Miguel Island Stock and the Eastern Pacific stock. Western DPS Steller sea lions (Eumetopias jubatus) and California sea lions (Zalophus californianus) may be harassed annually incidental to the research. See tables in permit application for numbers of takes by species, stock and activity.

A 5-year amendment is requested to continue the long term monitoring and assessment of Northern fur seal population and demographic parameters; health and disease trends; and foraging habits and ecology. Specifically, the requested amendment will: Add new methods (aerial surveys) and authorize associated incidental disturbance; edit methods (tag resighting observations) and authorize increased associated incidental disturbance; authorize existing procedures (nasal, vaginal, and fecal swab sampling) for/at other existing projects/locations; authorize new procedures (ocular swab and vibrissae sampling); add new species (harbor seals; Phoca vitulina) and authorize their disturbance incidental to northern fur seal research activities; and, modify protocols (tooth extraction, pup production estimates).

In compliance with the National Environmental Policy Act of 1969 (42 U.S.C. 4321 et seq.), an initial determination has been made that the effects of the activities proposed are consistent with the Preferred Alternative in the Final Programmatic Environmental Impact Statement for Steller Sea Lion and Northern Fur Seal Research (NMFS 2007) and that issuance of the requested permit amendment would not have a significant adverse impact on the human environment.

Concurrent with the publication of this notice in the Federal Register, NMFS is forwarding copies of this application to the Marine Mammal Commission and its Committee of Scientific Advisors.

Dated: May 13, 2014.
Tammy C. Adams,
Acting Chief, Permits and Conservation Division, Office of Protected Resources, National Marine Fisheries Service.

[FR Doc. 2014-11370 Filed 5-15-14; 8:45 am]

BILLING CODE 3510-22-P